DEPARTMENT OF STATE

[Public Notice: 12690]

Notice of Department of State Sanctions Actions Pursuant to the Executive Order Reimposing Certain Sanctions With Respect to Iran

SUMMARY: The Department of State is publishing the names of one or more persons that have been placed on the Department of Treasury's List of Specially Designated Nationals and Blocked Persons (SDN List) administered by the Office of Foreign Asset Control (OFAC) based on the Department of State's determination, in consultation with other departments, as appropriate, that one or more applicable legal criteria of the Executive Order reimposing certain sanctions with respect to Iran were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On March 20, 2025, the Department of State, in consultation with other departments, as appropriate, determined that the property and interests in property subject to U.S. jurisdiction of the following person is blocked under the relevant sanctions authority listed below.

Entities

HUAYING HUIZHOU DAYA BAY PETROCHEMICAL TERMINAL STORAGE CO., LTD (a.k.a. HAUYING HUIZHOU DAYA BAY PETROCHEMICAL TERMINAL WAREHOUSING CO., LTD.), No. 131 Seafood Street, Aotou Street, Daya Bay District, Huizhou, Guangdong 516200, China; Additional Sanctions Information—Subject to Secondary Sanctions; Unified Social Credit Code (USCC) 9144130055556327XA (China) [IRAN-EO13846].

Designated pursuant to section 3(a)(ii) of Executive Order 13846, “Reimposing Certain Sanctions with Respect to Iran” (E.O. 13846), for knowingly engaging in a significant transaction for the purchase, acquisition, sale, transport, or marketing of petroleum or petroleum products from Iran.

Amy E. Holman,
Principal Deputy Assistant Secretary, Bureau of Economic and Business Affairs, Department of State.

[FR Doc. 2025-05353 Filed 3-27-25; 8:45 am]

BILLING CODE 4710-07-P